COMMISSION ON CIVIL RIGHTS

Notice of Public Meetings of the Texas Advisory Committee; Correction

AGENCY: Commission on Civil Rights.

ACTION: Notice; correction.

SUMMARY: The Commission on Civil Rights published a notice in the Federal Register of December 22, 2017, concerning meetings of the Texas Advisory Committee. The date and time for the second meeting listed has been changed.

FOR FURTHER INFORMATION CONTACT: Ana Victoria Fortes, (213) 894-3437.

Correction

In the Federal Register of December 22, 2017, in FR Doc. 2017-27632, on page 60702, in the first column, correct the “Dates” caption to read:

The meetings will be held on Friday, January 12, 2018, at 1:00 p.m. Central Time and Friday, February 2, 2018, at 2:00 p.m. Central Time.

Dated: January 16, 2018.
David Mussatt,
Supervisory Chief, Regional Programs Coordination Unit.

[FR Doc. 2018-00946 Filed 1-19-18; 8:45 am]

BILLING CODE P